SMALL BUSINESS ADMINISTRATION

[Disaster Declaration # 10811]

Illinois Disaster # IL-00007

AGENCY: U.S. Small Business Administration.

ACTION: Notice.

SUMMARY: This is a Notice of the Presidential declaration of a major disaster for Public Assistance Only for the State of Illinois (FEMA-1681-DR), dated February 9, 2007.

Incident: Severe Winter Storm.

Incident Period: November 30, 2006 through December 1, 2006.

Effective Date: February 9, 2007.

Physical Loan Application Deadline Date: April 10, 2007.

ADDRESSES: Submit completed loan applications to: U.S. Small Business Administration, Processing and Disbursement Center, 14925 Kingsport Road Fort Worth, TX 76155.

FOR FURTHER INFORMATION CONTACT: A. Escobar, Office of Disaster Assistance, US Small Business Administration, 409 3rd Street SW., Suite 6050, Washington, DC 20416.

SUPPLEMENTARY INFORMATION: Notice is hereby given that as a result of the President's major disaster declaration on February 9, 2007, Private Non-Profit organizations that provide essential services of a governmental nature may file disaster loan applications at the address listed above or other locally announced locations.

The following areas have been determined to be adversely affected by the disaster:

Primary Counties:

Bond, Calhoun, Christian, De Witt, Fayette, Jersey, Logan, Macon, Macoupin, Madison, Mclean, Monroe, Montgomery, Piatt, Saint Clair, Sangamon, Shelby, Woodford.

The Interest Rates are:

| Percent
Other (Including Non-Profit Organizations) With Credit Available Elsewhere | 5.250
Businesses and Non-Profit Organizations Without Credit Available Elsewhere | 4.000

The number assigned to this disaster for physical damage is: 10811.

(Catalog of Federal Domestic Assistance Number 59008)

Roger B. Garland,
Acting Associate Administrator for Disaster Assistance.

[FR Doc. E7-3086 Filed 2-22-07; 8:45 am]

BILLING CODE 8025-01-P